DEPARTMENT OF VETERANS AFFAIRS

Notice of Insufficient VA Appropriations To Implement Requirements for Notification, Evaluation, and Reduction of Lead Based Paint Hazards in VA-Acquired Properties

AGENCY: Department of Veterans Affairs.

ACTION: Notice.

SUMMARY: This document provides notice of a determination by the Department of Veterans Affairs (VA) that it lacks appropriations sufficient to cover the costs of implementing certain regulations concerning Lead Based Paint hazards in single family properties acquired by VA in the operation of the VA guaranteed home loan program.

FOR FURTHER INFORMATION CONTACT: William Lutes, Assistant Director for Property Management and Strategic Development, (263), Loan Guaranty Service, Veterans Benefits Administration, Department of Veterans Affairs, 810 Vermont Avenue, NW., Washington, DC 20420, (202) 273-7379.

SUPPLEMENTARY INFORMATION: This Notice sets forth a determination by VA that it lacks appropriations sufficient to cover the costs of implementing certain regulations for notification, evaluation, and reduction of Lead Based Paint hazards in VA-acquired properties.

On September 5, 1999, the Department of Housing and Urban Development (HUD) published in the Federal Register (64 FR 50140) a final rule to ensure that housing receiving Federal assistance and Federally-owned housing that is to be sold does not pose lead-based paint hazards to young children. These regulations were designed to implement the Residential Lead-Based Paint Hazard Reduction Act of 1992, which is Title X of the Housing and Community Development Act of 1992; 42 U.S.C. 4851 et seq. These HUD rules are codified at 24 CFR part 35.

Requirements for the disposition of residential property owned by a Federal agency other than HUD are contained in 24 CFR, part 35, subpart C. Such requirements do not apply if appropriations to the agency are insufficient to cover the costs of implementing such statute and regulations. 42 U.S.C. 4822(a)(3)(C) and 24 CFR part 35.115(b).

VA hereby gives notice that, pursuant to 24 CFR 35.115(b), it has made a determination that it does not have appropriations sufficient to cover the costs of implementing 42 U.S.C. 4822(a)(3)(A)-(B) and 24 CFR, part 35, subpart C.

Dated: December 6, 2001.
Anthony J. Principi,
Secretary of Veterans Affairs.

[FR Doc. 01-30936 Filed 12-13-01; 8:45 am]

BILLING CODE 8320-01-M